DEPARTMENT OF ENERGY

Federal Energy Regulatory Commission

Combined Notice of Filings #1

Take notice that the Commission received the following electric rate filings:

Docket Numbers: ER10-1276-002; ER10-1292-001; ER10-1287-001; ER10-1303-001; ER10-1319-003; ER10-1353-003

Applicants: Consumers Energy Company

Description: Consumers Energy Company, et al. submits Notice of Non-Material Change in Status.

Filed Date: 2/28/12

Accession Number: 20120228-5045

Comments Due: 5 p.m. ET 3/20/12

Docket Numbers: ER10-1285-002

Applicants: Craven County Wood Energy Limited Partnership

Description: Craven County Wood Energy Limited Partnership submits Notice of Non-Material Change in Status.

Filed Date: 2/27/12

Accession Number: 20120227-5234

Comments Due: 5 p.m. ET 3/19/12

Docket Numbers: ER11-1902-001

Applicants: KCP&L Greater Missouri Operations Company

Description: Attachment L Compliance Filing to be effective 8/4/2010.

Filed Date: 2/27/12

Accession Number: 20120227-5181

Comments Due: 5 p.m. ET 3/19/12

Docket Numbers: ER12-973-001

Applicants: Verus Energy Trading, LLC

Description: Amendment to Initial Market-Based Rate Application to be effective 2/2/2012.

Filed Date: 2/27/12

Accession Number: 20120227-5182

Comments Due: 5 p.m. ET 3/19/12

Docket Numbers: ER12-1166-000

Applicants: BluCo Energy LLC

Description: Baseline Filing to be effective 2/28/2012.

Filed Date: 2/28/12

Accession Number: 20120228-5011

Comments Due: 5 p.m. ET 3/20/12

Docket Numbers: ER12-1167-000

Applicants: Southwest Power Pool, Inc.

Description: Southwest Power Pool, Inc.'s Notice of Cancellation of Large Generator Interconnection Agreement.

Filed Date: 2/27/12

Accession Number: 20120227-5222

Comments Due: 5 p.m. ET 3/19/12

Docket Numbers: ER12-1168-000

Applicants: The Detroit Edison Company

Description: Detroit Edison MBR Compliance Filing to be effective 2/28/2012.

Filed Date: 2/28/12

Accession Number: 20120228-5019

Comments Due: 5 p.m. ET 3/20/12

Docket Numbers: ER12-1169-000

Applicants: DTE Energy Trading, Inc.

Description: DTE Energy Trading MBR Compliance Filing to be effective 2/28/2012.

Filed Date: 2/28/12

Accession Number: 20120228-5020

Comments Due: 5 p.m. ET 3/20/12

Docket Numbers: ER12-1170-000

Applicants: Imperial Valley Solar Company (IVSC) 1, LLC

Description: Initial Market-Based Rate Tariff of IVSC 1 to be effective 2/28/2012.

Filed Date: 2/27/12

Accession Number: 20120227-5231

Comments Due: 5 p.m. ET 3/19/12

Take notice that the Commission received the following electric securities filings:

Docket Numbers: ES12-1-001

Applicants: Northeast Utilities Service Company, The Connecticut Light and Power Company

Description: Supplemental Information, Exhibits/Request of Northeast Utilities Service Co.

Filed Date: 2/27/12

Accession Number: 20120227-5128

Comments Due: 5 p.m. ET 3/8/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2012.
Nathaniel J. Davis, Sr.,
Deputy Secretary.

[FR Doc. 2012-5338 Filed 3-5-12; 8:45 am]

BILLING CODE 6717-01-P